DEPARTMENT OF ENERGY

Federal Energy Regulatory Commission

[Docket No. NJ12-2-000]

City of Riverside, CA; Notice of Petition For Declaratory Order

Take notice that on December 1, 2011, pursuant to Rule 205 and 207 of the Rules of Practice and Procedure of the Federal Energy Regulatory Commission (Commission), 18 CFR 385.205, 385.207 (2011), and consistent with the provisions of the TO Tariff of the City of Riverside, California (Riverside), Riverside filed a Petition for Declaratory Order, seeking a declaratory order to (1) revise Riverside's 2012 Transmission Revenue Requirement, (2) accept revisions to its Transmission Revenue Balancing Account Adjustment, (3) approve the annual update costs of its Existing Transmission Contracts with Southern California Edison Company, (3) recover true up cost through the ETC Pass-through Clause contained in Riverside's TO Tariff, (4) waive the sixty-day notice requirement, (5) and waive the filing fee and any other fees associated with the requested revisions.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on January 3, 2012.

Dated: December 9, 2011.
Kimberly D. Bose,
Secretary.

[FR Doc. 2011-32378 Filed 12-16-11; 8:45 am]

BILLING CODE 6717-01-P